ENVIRONMENTAL PROTECTION AGENCY

[ER-FRL-6656-1]

Environmental Impact Statements and Regulations; Availability of EPA Comments

Availability of EPA comments prepared pursuant to the Environmental Review Process (ERP), under Section 309 of the Clean Air Act and Section 102(2)(c) of the National Environmental Policy Act, as amended. Requests for copies of EPA comments can be directed to the Office of Federal Activities at (202) 564-7167. An explanation of the ratings assigned to draft environmental impact statements (EISs) was published in FR dated April 02, 2004 (69 FR 17403).

Draft EISs

ERP No. D-AFS-E65069-AL Rating LO, Longleaf Ecosystem Restoration Project, Proposes a Five-Year Project to Begin Restoration of Native Longleaf, Talladega National Forest, Oakmulgee District, Tuscaloosa, Hale, Bibbs, and Perry Counties, AL.

Summary: EPA has no objections to this project.

ERP No. D-AFS-J65419-MT Rating EC2, Gallatin National Forest, Main Boulder Fuels Reduction Project, Implementation, Gallatin National Forest, Big Timber Ranger District, Big Timber, Sweet Grass and Park Counties, MT.

Summary: EPA supports activities to reduce fuels and fire risk and increase public and firefighter safety. However, EPA is concerned about the potential for timber harvest activities and road construction to adversely impact aquatic resources, riparian habitat and functions.

ERP No. D-AFS-L65465-OR Rating EC2, Tamarack Quarry Expansion Project, Secure a Long-Term, Economical Source of Rock Material to Use for Highway and Road Maintenance, Mt. Hood National Forest, Clackamas County, OR.

Summary: EPA expressed environmental concerns with potential adverse impacts to water quality and hydrology. The Final EIS should include proposed excavation, reclamation and spill plans, including appropriate mitigation measures.

ERP No. D-FHW-F40424-OH Rating EC2, US 33 Nelsonville Bypass Project, To Upgrade Existing Four-Lane Controlled Access Expressway between Haydenville in Hocking County and New Floodwood in Hocking and Athens Counties, OH.

Summary: EPA expressed concerns due to forest fragmentation, habitat loss, and potential threats to threatened and endangered species. In addition, EPA requested information on drinking water sources, highway runoff, impacts to groundwater, and cumulative impacts associated with habitat fragmentation.

ERP No. D-FHW-J40163-UT Rating EC2, Iron County Transportation Corridors, Construction from Station Road 56 to Exit 51 on Interstate 15, Funding and Right-of-Way Grant, Southwest of the Cedar City, Iron County, UT.

Summary: EPA expressed concerns due to habitat fragmentation impacts, additional air emissions, environmental justice, and the cultural resources analysis.

ERP No. D-FRA-K53009-CA Rating EO2, California High-Speed Train System, Proposes a High-Speed Train (HST) System for Intercity Travel, Extending from Sacramento and the San Francisco Bay Area in the north, through Central Valley, to Los Angeles and San Diego in the south, Orange County, CA.

Summary: EPA expressed objections due to potential significant impacts to aquatic resources of national importance, wetlands, and habitat fragmentation in the Bay Area to Merced and the Bakersfield to Los Angeles regions, and impacts to farmland and resources from proposed bypasses around Central Valley communities. Information is requested that fully discloses the estimated direct, indirect, and cumulative impacts to aquatic and biological resources.

ERP No. D-NPS-K65271-CA Rating EC2, Santa Monica Mountains National Recreation Area, Fire Management Plan, Implementation, Santa Monica Mountains, CA.

Summary: EPA expressed concerns that the prescribed burn treatments in the proposed alternative may result in more adverse air quality impacts than using only mechanical treatment to meet the same needs. EPA recommend that the FEIS analyze another mechanical treatment alternative and assess air quality impacts for criteria pollutants other than PM10.

Final EISs

ERP No. F-BLM-J65393-CO, Colorado Canyons National Conservation Area and Black Ridge Canyons Wilderness Resource Management Plan, Implementation, Mesa County, CO.

Summary: No comment letter was sent to the preparing agency.

ERP No. F-BLM-K08027-NV, Tracy to Silver Lake Transmission Line Project, Construction, Operation and Maintenance of a 120kV Transmission Line from Tracy Power Plant to New Substations in the Spanish Spring Valley and Stead Areas, Right-of-Way Application, Washoe County, NV.

Summary: No comment letter was sent to the preparing agency.

ERP No. F-COE-K39066-CA, Port J. Long Beach Pier J South Terminal Expansion Project, Additional Cargo Requirements Associated with Growing Export and Import Volumes, Port Master Plan (PMP) Amendment, COE Section 404, 401 and 10 Permits, City of Long Beach, CA.

Summary: No comment letter was sent to the preparing agency.

Dated: September 21, 2004.
Robert W. Hargrove,
Director, NEPA Compliance Division, Office of Federal Activities.

[FR Doc. 04-21491 Filed 9-23-04; 8:45 am]

BILLING CODE 6560-50-P